DEPARTMENT OF HEALTH AND HUMAN SERVICES

National Institutes of Health

Submission for OMB Review; 30-Day Comment Request; Special Volunteer and Guest Researcher Assignment (Office of Intramural Research, Office of the Director)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact:

Dr. Arlyn Garcia-Perez, Director of Policy and Analysis, Office of Intramural Research, Office of the Director, National Institutes of Health, 1 Center Drive MSC 0140, Building 1, Room 160, MSC-0140, Bethesda, Maryland 20892 or call non-toll-free number (301) 496-1921 or (301) 496-1381 or Email your request, including your address to: GarciaA@od.nih.gov.

SUPPLEMENTARY INFORMATION: This proposed information collection was previously published in the Federal Register on September 25, 2025, page 46230 (90 FR 46230) and allowed 60 days for public comment. No public comments were received. The purpose of this notice is to allow an additional 30 days for public comment.

The Office of Intramural Research (OIR), Office of the Director, National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Special Volunteer and Guest Researcher Assignment, Extension of NIH Form 590, NIH Form 590-1 and NIH Form 590-2, OMB # 0925-0177, exp. date March 31, 2026, Office of Intramural Research (OIR), Office of the Director (OD), National Institutes of Health (NIH).

Need and Use of Information Collection: Form Number NIH-590 is a single form completed by an NIH official for each Guest Researcher or Special Volunteer prior to his/her arrival at NIH. The information on the form is necessary for the approving official to reach a decision on whether to allow a Guest Researcher to use NIH facilities, or whether to accept volunteer services offered by a Special Volunteer. If the original assignment is extended, another form notating the extension is completed to update the file. In addition to NIH Form 590, Guest Researchers fill a separate Guest Researcher Agreement, NIH Form 590-1, and Special Volunteers fill a separate Special Volunteer Agreement, NIH Form 590-2. These additional forms are the legal instruments for the Guest Researcher or Special Volunteer to acknowledge and agree to the conditions and responsibilities of their assignment at NIH. No revisions are proposed for any of the three forms currently.

OMB approval is requested for 3 years. There are no costs to respondents other than their time. The total estimated annualized burden hours are 652.

Estimated Annualized Burden Hours
Form name | Type of respondents | Number of respondents | Number of responses per respondent | Average burden per response (in hours) | Total annual hour burden hours
Special Volunteer and Guest Researcher Assignment | Special Volunteers and Guest researchers | 2,300 | 2 | 6/60 | 460
NIH Special Volunteer Agreement | Special Volunteers | 2,100 | 1 | 5/60 | 175
NIH Guest Researcher Agreement | Guest Researchers | 200 | 1 | 5/60 | 17
Totals |  | 2,300 | 6,900 |  | 652

Dated: December 11, 2025.
Matthew J. Memoli,
Principal Deputy Director, National Institutes of Health.

[FR Doc. 2025-23251 Filed 12-17-25; 8:45 am]

BILLING CODE 4140-01-P